DEPARTMENT OF DEFENSE

Department of the Air Force

Notice of Availability of Software and Documentation for Licensing

AGENCY: Department of the Air Force, Department of Defense.

ACTION: Availability of Mi-Std-1553B decoder software and documentation for licensing.

SUMMARY: Pursuant to the provisions of Section 801 of Public Law 113-66 (2014 National Defense Authorization Act) as extended by Section 818 of Public Law 114-328; the Department of the Air Force announces the availability of Mil-Std-1553B decoder software and related documentation for decoding the interaction of bus controllers (BC) and remote terminals (RT) using field programmable gate array (FPGA) implementation technology.

ADDRESSES: Licensing interests should be sent to: Air Force Research Laboratory, Sensors Directorate, AFRL/RYO, 2241 Avionics, Wright-Patterson AFB, OH 45433; Facsimile: (937) 656-4676.

FOR FURTHER INFORMATION CONTACT: Air Force Research Laboratory, Sensors Directorate, AFRL/RYO, 2241 Avionics, Wright-Patterson AFB, OH 45433; Facsimile: (937) 656-4676.

SUPPLEMENTARY INFORMATION: The Mil-Std-1553B decoder is written in the VHDL programming language and is vendor agnostic. This software is useful for implementation in technologies that need to passively collect, monitor or process existing Mil-Std-1553B bus interactions in real-time.

Henry Williams,
Acting Air Force Federal Register Liaison Officer.

[FR Doc. 2018-12716 Filed 6-12-18; 8:45 am]

BILLING CODE 5001-10-P